DEPARTMENT OF LABOR

Employment and Training Administration

Announcement of Public Briefings on Using the New H-2B Temporary Labor Certification Process for Occupations Other Than Agriculture or Registered Nursing

AGENCIES: Employment and Training Administration; Department of Labor.

ACTION: Notice of meeting.

SUMMARY: The Office of Foreign Labor Certification (OFLC) in the Department of Labor's Employment & Training Administration (ETA) has recently re-engineered several of its programs, including the H-2B temporary nonagricultural program. In addition, the Department's Wage and Hour Division (WHD) of the Employment Standards Administration (ESA) has amended contractual obligations applicable to employers of workers subject to Sections 101, 103 and 214(c) of the Immigration and Nationality Act (INA).

On December 19, 2008, the Department published a final rule redesigning the H-2B temporary nonagricultural program. The final rule significantly streamlined the labor certification process, including eliminating the duplicative review of H-2B applications by State Workforce Agencies and federalizing the provision of prevailing wage determinations. The H-2B Final Rule contains two implementation stages; a transition stage for all applications with a date of need before October 1, 2009, and a full implementation stage for applications with a date of need on or after October 1, 2009. All employers with a date of need on or after October 1, 2009 are required to comply with all assurances and obligations under the new final regulations.

In the preamble discussion of the H-2B Final Rule, the Department announced that it would provide stakeholder briefings on the H-2B Final Rule. ETA is issuing this notice to announce that it has scheduled two public briefings to educate stakeholders, program users, and other interested members of the public on applying for H-2B temporary labor certifications under the full implementation stage of the re-engineered program and on using the new ETA-9142 form.

As currently planned, the two briefings will take place in September of 2009 in Boston and Chicago. This notice provides the public with locations, dates, and registration information regarding the briefings. However, these briefings are subject to change and/or cancellation without further notice in the Federal Register. In the event of a change participants who have registered will be notified.

Time and Dates:

1. Thursday, September 17, 2009, Boston, Massachusetts. Time: 8:30 a.m. to 12:30 p.m.

2. Tuesday, September 22, 2009, Chicago, Illinois. Time: 12:30 p.m. to 4:30 p.m.

ADDRESSES: The meeting locations are:

1. Boston—Sheraton Boston Hotel, 39 Dalton Street; Boston, MA 02199.

2. Chicago—Westin O'Hare, 6100 North River Road, Rosemont, Illinois 60018.

To Register: To register to attend a briefing session please complete the registration process on-line, by visiting http://www.devdti.haverstick.biz/OFLCbriefings/Home.cfm. For questions regarding the registration process, please call (703) 299-1623 (this is not a toll-free number). Due to space considerations, attendance will be limited to those who register online. In the event of cancellation or change, registered participants will be notified.

FOR FURTHER INFORMATION CONTACT: For further information regarding the briefing, please contact William L. Carlson, PhD, Administrator, Office of Foreign Labor Certification, Employment and Training Administration, 200 Constitution Avenue, NW., Room C-4312, Washington, DC 20210; Telephone: (202) 693-3010 (this is not a toll-free number).

SUPPLEMENTARY INFORMATION: The registration information should be used by any member of the public planning to attend a briefing session.

Signed in Washington, DC, this 17th day of August 2009.
Jane Oates,
Assistant Secretary, Employment and Training Administration.

[FR Doc. E9-20112 Filed 8-20-09; 8:45 am]

BILLING CODE 4510-FP-P